DEPARTMENT OF HEALTH AND HUMAN SERVICES

Centers for Disease Control and Prevention

Prospective Grant of Exclusive License: Control of Arthropod Vectors of Parasitic Diseases

AGENCY: Centers for Disease Control and Prevention (CDC), Department of Health and Human Services.

ACTION: Notice.

SUMMARY: This is a notice in accordance with 35 U.S.C. 209(e) and 37 CFR 404.7 (a) (1) (i) that the Centers for Disease Control and Prevention (CDC), Technology Transfer Office, Department of Health and Human Services (DHHS), is contemplating the grant of a worldwide exclusive license to practice the inventions embodied in the patent application referred to below to Aventis Environmental Sciences, a business unit of Aventis CropScience, of Montvale, New Jersey. The patent rights in these inventions have been assigned to the government of the United States of America. The patent application to be licensed is:

Title: Use of Fipronil to Control Ixodes Ticks and Control Lyme Disease. U.S. Patent Application Serial No. 09/595,035 Filing Date: 06/16/00

The prospective exclusive license will be royalty-bearing and will comply with the terms and conditions of 35 U.S.C. 209 and 37 CFR 404.7.

This invention comprises a method of controlling Lyme disease by preventing the maturation of deer ticks on white-footed mice by exposing the mice to fipronil as they enter food-baited boxes.

ADDRESSES: Requests for a copy of the patent application, inquiries, comments, and other materials relating to the contemplated license should be directed to Andrew Watkins, Director, Technology Transfer Office, Centers for Disease Control and Prevention (CDC), 4770 Buford Highway, Mailstop K-79, Atlanta, GA 30341, telephone: (770) 488-8600; facsimile: (770) 488-8615. Applications for a license filed in response to this notice will be treated as objections to the grant of the contemplated license. Only written comments and/or applications for a license which are received by CDC within fifteen days of this notice will be considered.

Comments and objections submitted in response to this notice will not be made available for public inspection, and, to the extent permitted by law, will not be released under the Freedom of Information Act, 5 U.S.C. 552. A signed Confidential Disclosure Agreement will be required to receive a copy of any pending patent application.

Dated: May 15, 2002.
James D. Seligman,
Associate Director for Program Services, Centers for Disease Control and Prevention (CDC).

[FR Doc. 02-12649 Filed 5-20-02; 8:45 am]

BILLING CODE 4163-18-P